SMALL BUSINESS ADMINISTRATION

[Declaration of Disaster #P077]

State of Alaska (Amendment #2)

In accordance with a notice received from the Department of Homeland Security—Federal Emergency Management Agency, effective December 9, 2004, the above numbered Public Assistance declaration is hereby amended to reestablish the incident period for this disaster as beginning on October 18, 2004, and continuing through and including October 24, 2004.

All other information remains the same, i.e., the deadline for filing applications for physical damage is January 14, 2005.

(Catalog of Federal Domestic Assistance Program No. 59008).
Dated: December 16, 2004.
Herbert L. Mitchell,
Associate Administrator for Disaster Assistance.

[FR Doc. 04-28108 Filed 12-22-04; 8:45 am]

BILLING CODE 8025-01-P